DEPARTMENT OF HEALTH AND HUMAN SERVICES

National Institutes of Health

Center for Scientific Review; Amended Notice of Meeting

The NIH published a document in the Federal Register of May 18, 2021, concerning the meeting of the Synapses, Cytoskeleton and Trafficking Study Section. The document contained an incorrect point of contact.

Correction

In the Federal Register of May 18, 2021, in FR Doc. 2021-10466, on page 26924, in the third column, under Name of Committee: Molecular, Cellular and Developmental Neuroscience Integrated Review Group; Synapses, Cytoskeleton and Trafficking Study Section, correct “Contact Person” to read: Carol Hamelink, Ph.D., Scientific Review Officer, hamelinc@csr.nih.gov, (301) 213-9887.

Dated: June 9, 2021.
David W. Freeman,
Program Analyst, Office of Federal Advisory Committee Policy.

[FR Doc. 2021-12412 Filed 6-11-21; 8:45 am]

BILLING CODE 4140-01-P